DEPARTMENT OF ENERGY

[Case Number 2018-008, EERE-2017-BT-WAV-0038]

Energy Conservation Program: Extension of Waiver to Panasonic Appliances Refrigeration Systems Corporation of America (PAPRSA) From the Department of Energy Consumer Refrigerator and Refrigerator-Freezer Test Procedures

AGENCY: Office of Energy Efficiency and Renewable Energy, Department of Energy.

ACTION: Notice of extension of waiver.

SUMMARY: The U.S. Department of Energy (“DOE”) is granting a waiver extension (Case Number 2018-008) to Panasonic Appliances Refrigeration Systems Corporation of America (“PAPRSA”) to waive the requirements of the DOE refrigerator and refrigerator-freezer test procedures for determining the energy consumption of combination cooler-refrigerator basic model PR5181JKBC. PAPRSA is required to test and rate this basic model in accordance with the applicable DOE test procedure, with the exception that it must calculate the specified basic model's energy consumption using a correction factor (“K-factor”) of 0.85, as specified in the Extension of Waiver.

DATES: This Extension of Waiver is effective October 10, 2018. The Extension of Waiver will terminate on October 28, 2019, in conjunction with the compliance date that applies to the published standards for miscellaneous refrigeration products (“MREFs”). See 81 FR 75194 (Oct. 28, 2016).

FOR FURTHER INFORMATION CONTACT: Ms. Lucy deButts, U.S. Department of Energy, Office of Energy Efficiency and Renewable Energy, Building Technologies Office, EE-5B, 1000 Independence Avenue SW, Washington, DC 20585-0121. Email: AS_Waiver_Requests@ee.doe.gov.

Mr. Michael Kido, U.S. Department of Energy, Office of the General Counsel, Mail Stop GC-33, Forrestal Building, 1000 Independence Avenue SW, Washington, DC 20585-0103. Telephone: (202) 586-8145. Email: Michael.Kido@hq.doe.gov.

SUPPLEMENTARY INFORMATION: In accordance with Title 10 of the Code of Federal Regulations (10 CFR 430.27(g)), DOE gives notice of the issuance of an Extension of Waiver as set forth below. The Extension of Waiver extends the Decision and Order granted to PAPRSA on May 5, 2017 (82 FR 21209, “May 2017 Decision and Order”) to include PAPRSA combination cooler-refrigerator basic model PR5181JKBC, as requested by PAPRSA on June 26, 2018.¹ PAPRSA must test and rate the specifically identified combination cooler-refrigerator basic model in accordance with the alternate test procedure described in the May 2017 Decision and Order. PAPRSA's representations concerning the energy consumption of the specified basic model must be based on testing according to the provisions and restrictions in the alternate test procedure set forth in the May 2017 Decision and Order, and the representations must fairly disclose the test results. Distributors, retailers, and private labelers are held to the same requirements when making representations regarding the energy consumption of this product. (42 U.S.C. 6293(c))

¹ PAPRSA's request is available at http://regulations.gov in docket ID EERE-2017-BT-WAV-0038.

DOE makes decisions on waiver extensions for only those basic models specifically set out in the request, not future models that may be manufactured by the petitioner. PAPRSA may submit a new or amended petition for waiver and request for grant of interim waiver, as appropriate, for additional basic models of combination cooler-refrigerators. Alternatively, if appropriate, PAPRSA may request that DOE extend the scope of a waiver to include additional basic models employing the same technology as the basic model(s) set forth in the original petition consistent with 10 CFR 430.27(g).

Signed in Washington, DC, on October 2, 2018.
Kathleen B. Hogan,
Deputy Assistant Secretary for Energy Efficiency, Energy Efficiency and Renewable Energy.

Case Number 2018-008—Extension of Waiver

I. Background and Authority

The Energy Policy and Conservation Act of 1975, as amended (“EPCA”),¹ (42 U.S.C. 6291-6317), among other things, authorizes DOE to regulate the energy efficiency of a number of consumer products and industrial equipment. Title III, Part B ² EPCA established the Energy Conservation Program for Consumer Products Other Than Automobiles, which sets forth a variety of provisions designed to improve energy efficiency for certain types of consumer products. These products include consumer refrigerators and refrigerator-freezers, the focus of this extension. (42 U.S.C. 6292(a)(1)).

¹ All references to EPCA in this document refer to the statute as amended through the EPS Improvement Act of 2017, Public Law 115-115 (January 12, 2018).

² For editorial reasons, upon codification in the U.S. Code, Part B was redesignated Part A.

Under EPCA, DOE's energy conservation program consists essentially of four parts: (1) Testing, (2) labeling, (3) Federal energy conservation standards, and (4) certification and enforcement procedures. Relevant provisions of EPCA include definitions (42 U.S.C. 6291), energy conservation standards (42 U.S.C. 6295), test procedures (42 U.S.C. 6293), labeling provisions (42 U.S.C. 6294), and the authority to require information and reports from manufacturers. (42 U.S.C. 6296).

The Federal testing requirements consist of test procedures that manufacturers of covered products must use as the basis for: (1) Certifying to DOE that their products comply with the applicable energy conservation standards adopted pursuant to EPCA (42 U.S.C. 6295(s)), and (2) making representations about the efficiency of these products (42 U.S.C. 6293(c)). Similarly, DOE must use these test procedures to determine whether the products comply with relevant standards promulgated under EPCA. (42 U.S.C. 6295(s)).

Under 42 U.S.C. 6293, EPCA sets forth the criteria and procedures DOE is required to follow when prescribing or amending test procedures for covered products. EPCA requires that test procedures prescribed or amended under this section must be reasonably designed to produce test results which reflect the energy efficiency, energy use or estimated annual operating cost of a covered product during a representative average use cycle or period of use and requires that test procedures not be unduly burdensome to conduct. (42 U.S.C. 6293(b)(3) The test procedure for refrigerators and refrigerator-freezers is contained in 10 CFR part 430, subpart B, appendix A, Uniform Test Method for Measuring the Energy Consumption of Refrigerators, Refrigerator-Freezers, and Miscellaneous Refrigeration Products (“appendix A”).

Under 10 CFR 430.27, any interested person may submit a petition for waiver from DOE's test procedure requirements. DOE will grant a waiver from the test procedure requirements if DOE determines either that the basic model for which the waiver was requested contains a design characteristic that prevents testing of the basic model according to the prescribed test procedures, or that the prescribed test procedures evaluate the basic model in a manner so unrepresentative of its true energy or water consumption characteristics as to provide materially inaccurate comparative data. 10 CFR 430.27(f)(2). DOE may grant the waiver subject to conditions, including adherence to alternate test procedures. Id.

A petitioner may request that DOE extend the scope of a waiver or an interim waiver to include additional basic models employing the same technology as the basic model(s) set forth in the original petition. 10 CFR 430.27(g). DOE will publish any such extension in the Federal Register. Id.

II. Request for an Extension of Waiver: Assertions and Determinations

DOE issued a Decision and Order in Case Number RF-043 granting PAPRSA a waiver to test its basic models PR6180WBC, KBCS24RSBS, SR6180BC, SR5180JBC, and PR5180JKBC using an alternate test procedure. 82 FR 21209 (May 5, 2017) (“May 2017 Decision and Order”). PAPRSA requested that it be permitted to use a modified version of the test procedure that would specify a higher standardized temperature for testing wine chiller compartments as opposed to the standardized compartment temperature of 39 degrees Fahrenheit (°F) for refrigerators, and use of a correction factor of 0.85 when calculating energy consumption. PAPRSA stated that it designed these models to provide an average temperature of 55 to 57 °F, which it determined is a commonly recommended temperature for wine storage, suggesting that this temperature is presumed to be representative of expected consumer use. 81 FR 4270, 4271 (February 25, 2016).

Based on its review of the information provided by PAPRSA, DOE determined that appendix A addresses the temperature issue identified by PAPRSA based on the amendments incorporated from the miscellaneous refrigeration products (“MREF”) test procedure final rule. See 81 FR 46768 (July 18, 2016) (MREF test procedure final rule) and 81 FR 49868 (July 29, 2016) (MREF test procedure final rule correction notice). As specified in the May 5, 2017 Decision and Order, DOE also identified the formulas in appendix A that, for purposes of the waiver, should incorporate a 0.85 correction factor (the correction factor accounts for the thermal load from loading warm items and from door openings). 82 FR at 21210. On August 4, 2017, in response to a request from PAPRSA, DOE issued a Decision and Order (Case Number RF-047) extending the waiver to include basic model PR5181WBC. 82 FR 36386.

On June 26, 2018, PAPRSA submitted a request under 10 CFR 430.27(g) to extend the scope of the waiver in Case Number RF-043 to a new basic model, PR5181JKBC. PAPRSA stated that the new basic model employs the same technology as the basic models set forth in the original petition for waiver. Specifically, PAPRSA stated that basic model PR5181JKBC employs the same wine compartment—beverage compartment technology and design characteristics as the basic models for which the original waiver was granted and that the basic model uses a heater that prevents the wine-chiller compartment temperature from falling below 42 °F.

DOE has reviewed PAPRSA's waiver extension request in Case Number RF-043. Based on this review, DOE has determined that the basic model specified in PAPRSA's current waiver extension request incorporates the same design characteristics as those basic models covered under the waiver in Case Number RF-043 such that the DOE test procedure evaluates that basic model in a manner that is unrepresentative of its actual energy use. DOE also determined that applying the alternate procedure specified in Case Number RF-043 will allow for the accurate measurement of the energy use of the consumer refrigerator basic model identified by PAPRSA in its waiver extension request.

III. Order

After careful consideration of all the material submitted by PAPRSA in this matter, it is Ordered that:

(1) PAPRSA must, as of the date of publication of this Extension of Waiver in the Federal Register, test and rate the combination cooler-refrigerator basic model PR5181JKBC as set forth in paragraph (2).

(2) The alternate test procedure for the basic model listed in paragraph (1) is the test procedure in 10 CFR part 430, subpart B, appendix A, with the exception that PAPRSA must calculate energy consumption using a correction factor (“K-factor”) of 0.85, as follows.

The energy consumption is defined by:

If compartment temperatures are below their respective standardized temperatures for both test settings (according to 10 CFR part 430, subpart B, appendix A, sec. 6.2.4.1):

E = (ET1 × 0.85) + IET.

If compartment temperatures are not below their respective standardized temperatures for both test settings, the higher of the two values calculated by the following two formulas (according to 10 CFR part 430, subpart B, appendix A, sec. 6.2.4.2):

Energy consumption of the “cooler compartment”:

ECooler Compartment = (ET1 + [(ET2−ET1) × (55 °F−TW1)/(TW2−TW1)]) × 0.85 + IET

Energy consumption of the “fresh food compartment”:

EFreshFood Compartment = (ET1 + [(ET2−ET1) × (39 °F−TBC1)/(TBC2−TBC1)]) × 0.85 + IET.

(3) Representations. PAPRSA may not make representations about the energy consumption of the combination cooler-refrigerator identified in paragraph (1) of this section for compliance, marketing, or other purposes unless that basic model has been tested in accordance with the provisions set forth above and such representations fairly disclose the results of such testing.

(4) This Extension of Waiver shall remain in effect consistent with the provisions of 10 CFR 430.27. This Order will terminate on October 28, 2019, in conjunction with the compliance date that applies to the standards published on October 28, 2016 for miscellaneous refrigeration products (“MREFs”). See 81 FR 75194 (Oct. 28, 2016). Testing to demonstrate compliance with those standards must be performed in accordance with the MREF test procedure final rule. See 81 FR 46768 (July 18, 2016) (MREF test procedure final rule) and 81 FR 49868 (July 29, 2016) (MREF test procedure final rule correction notice).

(5) This Extension of Waiver is issued on the condition that the statements, representations, and documents provided by PAPRSA are valid. If PAPRSA makes any modifications to the controls or configurations of these basic models, the waiver will no longer be valid and PAPRSA will either be required to use the current Federal test method or submit a new application for a test procedure waiver. DOE may rescind or modify this Extension of Waiver at any time if it determines the factual basis underlying the petition for extension of waiver is incorrect, or the results from the alternate test procedure are unrepresentative of the basic models' true energy consumption characteristics. 10 CFR 430.27(k)(1). Likewise, PAPRSA may request that DOE rescind or modify the Extension of Waiver if the petitioner discovers an error in the information provided to DOE as part of its petition, determines that the Extension of Waiver is no longer needed, or for other appropriate reasons. 10 CFR 430.27(k)(2).

(6) Granting of this Extension of Waiver does not release PAPRSA from the certification requirements set forth at 10 CFR part 429.

Signed in Washington, DC, on October 2, 2018.

Kathleen B. Hogan,

Deputy Assistant Secretary for Energy Efficiency, Energy Efficiency and Renewable Energy.

[FR Doc. 2018-22003 Filed 10-9-18; 8:45 am]

BILLING CODE 6450-01-P